DEPARTMENT OF THE INTERIOR

National Park Service

Notice of Intent to Repatriate a Cultural Item: U.S. Department of Agriculture, Forest Service, Tongass National Forest, Petersburg, AK

AGENCY: National Park Service, Interior.

ACTION: Notice.

Notice is here given in accordance with the Native American Graves Protection and Repatriation Act (NAGPRA), 25 U.S.C. 3005, of the intent to repatriate a cultural item in the control of the U.S. Department of Agriculture, Forest Service, Tongass National Forest, Petersburg, AK. The unassociated funerary object was removed from Kuiu Island in Southeast Alaska.

This notice is published as part of the National Park Service's administrative responsibilities under NAGPRA, 25 U.S.C. 3003(d)(3). The determinations in this notice are the sole responsibility of the museum, institution, or Federal agency that has control of the cultural item. The National Park Service is not responsible for the determinations in this notice.

A detailed assessment of the unassociated funerary object was made by the U.S. Department of Agriculture, Forest Service professional staff in consultation with representatives of the Klawock Cooperative Association and Organized Village of Kake.

In 1976, an object was removed from a cave in Port Malmesbury, Kuiu Island in Southeast Alaska, by a Forest Service archeologist. The object is a wooden artifact that is believed to be a funerary object since the cave where it was removed from contained human remains and associated funerary objects. The human remains and associated funerary objects that were removed from Port Malmesbury, Kuiu Island were repatriated to the Organized Village of Kake in 1998, and are described in a Notice of Inventory Completion previously published in the Federal Register (63 FR 18034-18035, April 13, 1998). Due to an administrative oversight this funerary object was not included.

Historical and ethnographic records, along with Tlingit oral history, indicate that a smallpox epidemic in the 1800s decimated the Tlingit communities on Kuiu Island and the survivors moved to Kake and Klawock. The members of the Killerwhale clan in these villages are the descendants of these survivors.

Officials of the U.S. Department of Agriculture, Tongass National Forest have determined that, pursuant to 25 U.S.C. 3001(3)(B), the one object described above is reasonably believed to have been placed with or near individual human remains at the time of death or later as part of the death rite or ceremony and are believed, by a preponderance of the evidence, to have been removed from a specific burial site of a Native American individual. Officials of the U.S. Department of Agriculture, Tongass National Forest also have determined that, pursuant to 25 U.S.C. 3001(2), there is a relationship of shared group identity that can be reasonably traced between the unassociated funerary object and the Klawock Cooperative Association and Organized Village of Kake.

Representatives of any other Indian tribe that believes itself to be culturally affiliated with the unassociated funerary object should contact Forrest Cole, U.S. Department of Agriculture, Forest Service, Tongass National Forest, Federal Building, Ketchikan, AK 99901-6591, telephone (907) 225-3101, before June 8, 2009. Repatriation of the unassociated funerary object to the Klawock Cooperative Association and Organized Village of Kake may proceed after that date if no additional claimants come forward.

The U.S. Department of Agriculture, Tongass National Forest is responsible for notifying the Central Council of Tlingit & Haida Indian Tribes, Klawock Cooperative Association, Organized Village of Kake, and Sealaska Corporation that this notice has been published.

Dated: April 14, 2009.
Sherry Hutt,
Manager, National NAGPRA Program.

[FR Doc. E9-10577 Filed 5-6-09; 8:45 am]

BILLING CODE 4312-50-S